DEPARTMENT OF VETERANS AFFAIRS

[OMB Control No. 2900-0465]

Agency Information Collection Activity: Student Verification of Enrollment

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before February 6, 2023.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0465” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0465” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Section 3680(g); Public Law 96-342 Section 903; Title 10 U.S.C., National Call to Service; Chapter 31 Section 510; Title 38 U.S.C., Chapters 30, 32, 33, 35, and Title 10 U.S.C., Chapter 1606.

Title: Student Verification of Enrollment, VAF 22-8979.

OMB Control Number: 2900-0465.

Type of Review: Revision of a currently approved collection.

Abstract: The VA uses the information requested by this collection to determine the eligible beneficiaries' continued entitlement to benefits. The collection of this information is essential for the administration of these programs. The student is required to submit the verification on a monthly basis to allow for a frequent, periodic release of payment. Without this information, VA could not pay eligible beneficiaries benefits based on their proof of attendance and/or change(s) in their enrollment. Information technology is being used to collect the information provided on this form. Individuals receiving benefits under chapter 33 do not have to verify their attendance. Chapters 30 and 1606 respondents must submit this information electronically using either the automated telephone system or the internet. The information is provided via the Toll-free automated telephone number using Interactive Voice Response technology (IVR). If the information is provided via the internet, it is collected via the Web Automated Verification of Enrollment (WAVE) system. Only respondents receiving education benefits under chapter 32 or 35, or section 903, who are enrolled in NCD programs receive the paper form. The VA extracts claimant information electronically from education data resources and places it into the appropriate blocks of VA Form 22 8979. The VA then sends the printed form for chapters 32 and 35, as well as section 903 to respondents during computer generated monthly mailings. Majority of the individuals enrolled in NCD programs verify their attendance using the Toll-free customer service number (1-888-442-4551) instead of returning the form. The number of respondents who complete and return the paper form is insignificant. Collection of this information on a monthly basis will prevent overpayment of benefits due to late reporting, since payment will not be made until the report of attendance has been returned to VA and processed. To collect information less often would preclude VA from making monthly payments as required under existing regulations.

Affected Public: Individuals or Households.

Estimated Annual Burden: 21,526 hours.

Estimated Average Burden Time Per Respondent: 1 minute.

Frequency of Response: On Occasion.

Estimated Number of Respondents: 258,313.

By direction of the Secretary.
Dorothy Glasgow,
VA PRA Clearance Officer (Alt.), Office of Enterprise and Integration/Data Governance Analytics, Department of Veterans Affairs.

[FR Doc. 2022-26455 Filed 12-5-22; 8:45 am]

BILLING CODE 8320-01-P